DEPARTMENT OF COMMERCE

International Trade Administration

[A-549-822]

Certain Frozen Warmwater Shrimp From Thailand; Partial Rescission of Antidumping Duty; Administrative Review

AGENCY: Import Administration, International Trade Administration, Department of Commerce.

DATES: Effective Date: July 20, 2006.

FOR FURTHER INFORMATION CONTACT: Irina Itkin or Alice Gibbons, AD/CVD Operations, Office 2, Import Administration, International Trade Administration, U.S. Department of Commerce, 14th Street and Constitution Avenue, NW., Washington, DC 20230; telephone: (202) 482-0656 or (202) 482-0498, respectively.

SUPPLEMENTARY INFORMATION:

Background

On February 1, 2006, the Department of Commerce (the Department) published in the Federal Register a notice of opportunity to request an administrative review of the antidumping duty order on certain frozen warmwater shrimp from Thailand for the period August 4, 2004, through January 31, 2006. See Antidumping or Countervailing Duty Order, Finding, or Suspended Investigation; Opportunity to Request Administrative Review, 71 FR 5239 (Feb. 1, 2006). On February 28, 2006, in accordance with 19 CFR 351.213(b)(2), certain respondents requested a review of the antidumping duty order on certain frozen warmwater shrimp from Thailand. In addition, on February 28, 2006, the petitioner ¹ also requested an administrative review for numerous Thailand exporters of subject merchandise in accordance with 19 CFR 351.213(b)(2)(1).

¹ The petitioner in this proceeding is the Ad Hoc Shrimp Trade Action Committee.

In April 2006, the Department initiated an administrative review for 145 companies and requested that each provide data on the quantity and value of its exports of subject merchandise to the United States during the period of review (POR). These companies are listed in the Department's notice of initiation. See Notice of Initiation of Administrative Reviews of the Antidumping Duty Orders on Certain Frozen Warmwater Shrimp from Brazil, Ecuador, India and Thailand, 71 FR 17819 (Apr. 7, 2006) (Notice of Initiation).

Between May 11, 2006, and July 6, 2006, the requests for administrative review were withdrawn for 112 companies, in accordance with 19 CFR 351.213(d)(1). These companies are: (1) ACU Transport (ACU); (2) Ampai Frozen Food, Co., Ltd. (Ampai); (3) Andaman Seafood Co., Ltd. (Andaman); (4) Applied DB Ind (Applied DB); (5) Asian Seafoods Cold Storage Public Company Limited (Asian Seafoods); (6) Asian Seafoods Coldstorage (Suratthani) Co., Ltd. (Asian Seafoods (Suratthani)); (7) Assoc. Commercial Systems; (8) AS Intermarine Foods Co., Ltd. (AS Intermarine); (9) Bright Sea Co., Ltd. (Bright Sea); (10) CP Mdse; (11) C.Y. Frozen Food Co., Ltd. (C.Y. Frozen Food); (12) Capital Food Trade Limited (Capital); (13) Chaivaree Marine Products Co., Ltd. (Chaivaree Marine); (14) Chaiwarut Co., Ltd. (Chaiwarut); (15) Chanthaburi Frozen Food Co., Ltd. (Chanthaburi); (16) Chanthaburi Seafood Co., Ltd. (Chanthaburi Seafoods); (17) Charoen Pokphand Foods Public Company Limited (Charoen Pokphand); (18) Chonburi LC; (19) Chue Eie Mong Eak (Chue Eie); (20) Daedong (Thailand) Co. Ltd. (Daedong); (21) Daiei Taigen (Thailand) Co., Ltd. (Daiei); (22) Daiho (Thailand) Co., Ltd. (Daiho); (23) Dynamic Intertransport (Dynamic); (24) Euro-Asian International Seafoods Co., Ltd. (Euro-Asian); (25) Fait; (26) Findus (Thailand) Limited (Findus); (27) Frozen Marine Products Co., Ltd. (Frozen Marine Products); (28) Good Fortune Cold Storage Co., Ltd. (Good Fortune); (29) Haitai Seafood Co., Ltd. (64/2 Moo 5, Chana-Pattani Road, T. Bana, Amphur Chana, Songkhla, Thailand) ² (Haitai Songkla); (30) Haitai Seafood Co., Ltd. (946 Room 902 9th Floor, Dusit Thani Building, Rama 4 Road, Silom, Bangrak, Bangkok 10500 Thailand) (Haitai Bangkok); (31) Ham Intl (Ham); (32) Heng Seafood Limited Partnership (Heng); (33) Heritrade; (34) High Way International Co., Ltd. (High Way); (35) Instant Produce; (36) Inter-Pacific Marine Products Co., Ltd. (Inter-Pacific); (37) KD Trdg (KD); (38) Kiang Huat Sea Hull Trading Frozen Food Public Co., Ltd. (Kiang Huat); (39) Kingfisher Holdings Limited (1261 Vicheanchodoc Rd., Tambol Mahachai, Amphur Muang, Samutsakorn 74000 Thailand) ³ (Kingfisher Samutsakorn); (40) Kingfisher Holdings Limited (127/27 22nd Floor, Panjathani Tower Building, Nonsee (Rachadapisek) Road Chongnonsi, Yannawa, Bangkok 10120 Thailand) (Kingfisher Bangkok); (41) Klang Co., Ltd. (200 Moo 1 Sukhumvit Road Khlong Poon Klaeng, Rayong 21170 Thailand) ⁴ (Klang Rayong); (42) Klang Co., Ltd. (12th Floor, C.P. Tower, 313 Silom Road Bangrak, Bangkok 10500 Thailand) (Klang Bangkok); (43) Kongphop Frozen Foods Co., Ltd. (Kongphop); (44) Leo Transports (Leo); (45) Lucky Union Foods (Lucky Union); (46) Magnate and Syndicate Co., Ltd. (Magnate and Syndicate); (47) Mahachai Food Processing Co., Ltd. (Mahachai); (48) Marine Gold Products Co., Ltd. (Marine Gold); (49) May Ao Co., Ltd. (May Ao); (50) May Ao Foods Co., Ltd. (May Ao Foods); (51) Merkur Co., Ltd. (Merkur); (52) MFK Interfood (MFK); (53) Ming Chao Industrial (Thailand) Co., Ltd. (Ming Chao); (54) N&N Foods Co., Ltd. (N&N); (55) Namprik Maesri (Namprik); (56) Nongmon SMJ Products (Nongmon); (57) Ongkorn Cold Storage Ltd. (Ongkorn); (58) Penta Impex (Penta); (59) Phatthana Seafood Co., Ltd. (Phatthana); (60) Premier Frozen Products Co., Ltd. (Premier); (61) Preserved Foods; (62) Rayong Coldstorage (1987) Co., Ltd. (Rayong); (63) S. Chaivaree Cold Storage Co., Ltd. (S. Chaivaree); (64) S. Khonkaen Food Ind Public (S. Khonkaen Public); (65) S. Khonkaen Food Ind (S. Khonkaen); (66) S.C.C. Frozen Seafood Co., Ltd. (S.C.C.); (67) SCT Co., Ltd. (SCT); (68) Samui Foods (Samui); (69) Sea Bonanza Food Co., Ltd. (332 Soi Pongvetchchanusorn 2, Sukhumvit 64 Road, Bangchak, Prakanong, Bangkok 10260 Thailand) ⁵(Sea Bonanza Bangkok); (70) Sea Bonanza Food Co., Ltd. (48-49 Sapmahachok, Tambom Nadee, Amphur Moung, Samutsakorn, Thailand) (Sea Bonanza Samutsakorn); (71) Seafoods Enterprise Co., Ltd. (Seafoods Enterprise); (72) Seafresh Fisheries; (73) Seafresh Industry Public Company Limited (Seafresh Industry); (74) Search & Serve; (75) Shianlin Bangkok Co., Ltd.(159 Surawong Road Suriyawong Bangrak, Bangkok 10500 Thailand) (Shianlin Bangkok); (76) Shianlin Bangkok Co., Ltd. (148 Moo 5, Tambol Tasai Muang, Samut Sakorn Thailand) (Shianlin Samut Sakorn); (77) Siam Food Supply Co., Ltd. (Siam Food); (78) Siam Marine Products (Siam Marine); (79) Siam Union Frozen Foods (Siam Union); (80) Sky Fresh; (81) Songkla Canning (Songkla); (82) STC Foodpak Co., Limited (STC); (83) Suntechthai Intertrdg (Suntechthai); (84) Surapon Seafoods Public Co., Ltd. (Surapon); (85) Surat Seafood Co., Ltd. (Surat); (86) Suree Interfoods (Suree); (87) Teppitak Seafood (Teppitak); (88) Tey Seng Cold Storage Company Limited (Tey Seng); (89) Thai Excel Foods Co., Ltd. (Thai Excel); (90) Thai-ger Marine Co., Ltd. (Thai-ger); (91) Thai International Seafoods Co., Ltd. (Thai International); (92) Thai Mahachai Seafood Products Co., Ltd. (Thai Mahachai); (93) Thai Prawn Culture Center Company Limited (Thai Prawn); (94) Thai Royal Frozen Food (Thai Royal); (95) Thai Spring Fish Co., Ltd. (Thai Spring); (96) Thai Union Frozen Products Co., Ltd. (Thai Union Frozen); (97) Thai Union Seafood Co., Ltd. (Thai Union Seafood); (98) Thai Union Mfg. (Thai Union Mfg.); (99) Thai Yoo (Thai Yoo); (100) Thailand Fishery Cold Storage Public Co., Ltd. (Thailand Fishery); (101) Thanaya Intl (Thanaya); (102) The Siam Union Frozen Food Co., Ltd. (The Siam Union); (103) The Union Frozen Products Co., Ltd. (The Union Frozen Products); (104) Trang Seafood Products Public Co., Ltd. (Trang); (105) Transamut Food Co., Ltd. (Transamut); (106) United Cold Storage Co., Ltd. (United Cold Storage); (107) Wales & Co. Universe Ltd. (Wales & Co.); (108) Wann Fisheries Co., Ltd. (Wann); (109) Xian-Ning Seafood Co., Ltd. (Xian-Ning); (110) Y2K Frozen Foods Co., Ltd. (Y2K); (111) Yeenin Frozen Foods Co., Ltd. (Yeenin); and (112) Yong Siam Enterprise Co., Ltd. (Yong). Section 351.213(d)(1) of the Department's regulations requires that the Secretary rescind an administrative review if a party requesting a review withdraws the request within 90 days of the date of publication of the notice of initiation. Therefore, because all requests for administrative reviews were timely withdrawn for the companies listed above, in accordance with 19 CFR 351.213(d)(1), we are rescinding this review with regard to these companies.

² We note that we initiated two separate reviews on Haitai Seafood Co., Ltd. because the petitioner requested a review of this company and listed two separate addresses. On June 29, 2006, the petitioner withdrew its review requests for this company at both addresses.

³ We note that we initiated two separate reviews on Kingfisher Holdings Ltd. because the petitioner requested a review of this company and listed two separate addresses. On June 21, 2006, the petitioner withdrew its review requests for this company at both addresses.

⁴ We note that we initiated two separate reviews on Klang Co., Ltd. because the petitioner requested a review of this company and listed two separate addresses. On May 11, 2006, the petitioner withdrew its review requests for this company at both addresses.

⁵ We note that we initiated two separate reviews on Sea Bonanza Food Co., Ltd. because the petitioner requested a review of this company and listed two separate addresses. On June 29, 2006, the petitioner withdrew its review requests for this company at both addresses.

Partial Rescission of Review

As noted above, the petitioner and certain respondents withdrew their requests for an administrative review of ACU, Ampai, Andaman, Applied DB, Asian Seafoods, Asian Seafoods (Suratthani), Assoc. Commercial Systems, AS Intermarine, Bright Sea, CP Mdse, C.Y. Frozen Food, Capital, Chaivaree Marine, Chaiwarut, Chanthaburi, Chanthaburi Seafoods, Charoen Pokphand, Chonburi LC, Chue Eie, Daedong, Daiei, Daiho, Dynamic, Euro-Asian, Fait, Findus, Frozen Marine Products, Good Fortune, Haitai Songkla, Haitai Bangkok, Ham, Heng, Heritrade, High Way, Instant Produce, KD, Inter-Pacific, Kiang Huat, Kingfisher Samutsakorn, Kingfisher Bangkok, Klang Rayong, Klang Bangkok, Kongphop, Leo, Lucky Union, Magnate and Syndicate, Mahachai, Marine Gold, May Ao, May Ao Foods, Merkur, MFK, Ming Chao, N&N, Namprik, Nongmon, Ongkorn, Penta, Phatthana, Premier, Preserved Foods, Rayong, S. Chaivaree, S. Khonkaen Public, S. Khonkaen, S.C.C., SCT, Samui, Sea Bonanza Bangkok, Sea Bonanza Samutsakorn, Seafoods Enterprise, Seafresh Fisheries, Seafresh Industry, Search & Serve, Shianlin Bangkok, Shianlin Samut Sakorn, Siam Food, Siam Marine, Siam Union, Sky Fresh, Songkla, STC, Suntechthai, Surapon, Surat, Suree, Teppitak, Tey Seng, Thai Excel, Thai-ger, Thai International, Thai Mahachai, Thai Prawn, Thai Royal, Thai Spring, Thai Union Frozen, Thai Union Seafood, Thai Union Mfg., Thai Yoo, Thailand Fishery, Thanaya, The Siam Union, The Union Frozen Products, Trang, Transamut, United Cold Storage, Wales & Co., Wann, Xian-Ning, Y2K, Yeenin, and Yong within the time limits set forth in 19 CFR 351.213(d)(1). Therefore, because no other interested party requested a review for these companies, in accordance with 19 CFR 351.213(d)(1), we are rescinding this review with respect to these companies.

This notice is published in accordance with section 751 of the Tariff Act of 1930, as amended, and 19 CFR 351.213(d)(4).

Dated: July 14, 2006.
Stephen J. Claeys,
Deputy Assistant Secretary for Import Administration.

[FR Doc. E6-11561 Filed 7-19-06; 8:45 am]

BILLING CODE 3510-DS-P